DEPARTMENT OF ENERGY
Federal Energy Regulatory Commission
[Project Nos. 2516-026-WV, and 2517-012-WV]
Allegheny Energy Supply Company, LLC; Dam No. 4 Hydro Station Project and Dam No. 5 Hydro Station Project; Notice of Availability of Environmental Assessment
January 23, 2004.
In accordance with the National Environmental Policy Act of 1969 and the Federal Energy Regulatory Commission's (Commission) regulations, 18 CFR part 380 (Order No. 486; 52 FR 47897), the staff of the Office of Energy Projects (staff) has reviewed the applications for a new license for the Dam No. 4 Hydro Station Project No. 2516 and a subsequent license for the Dam No. 5 Hydro Station Project No. 2517, located on the Potomac River in West Virginia, and has prepared an Environmental Assessment (EA) for the projects. The Dam No. 4 Hydro Station Project is located near the town of Shepherdstown, West Virginia, in Berkeley and Jefferson Counties. The Dam No. 5 Hydro Station Project is located near the town of Hedgesville, in Berkeley County. The project dams and reservoirs are owned by the United States and operated by the National Park Service.
The EA contains the staff's analysis of the potential environmental impacts of the projects and concludes that licensing the projects, with appropriate environmental protective measures, would not constitute major Federal actions that would significantly affect the quality of the human environment.

A copy of the EA is available for review at the Commission in the Public Reference Room, located at 888 First Street, NE., Room 2A, Washington, DC 20426, or may be viewed on the Commission's Web site at http://www.ferc.gov using the “eLibrary” link (formerly, “FERRIS” link). Enter the docket number excluding the last three digits in the docket number field to access the document. For assistance, contact FERC Online Support at FERCOnlineSupport@ferc.gov or toll-free at 1-866-208-3676, or for TTY, (202) 502-8659.
You may also register online at http://www.ferc.gov/esubscribenow.htm to be notified via email of new filings and issuances related to this or other pending projects.

Because staff intends this to be the only EA prepared for these projects, any comments on this EA should be filed within 30 days from the date of this notice and should be addressed to: Magalie R. Salas, Secretary, Federal Energy Regulatory Commission, 888 First Street, NE., Washington, DC 20426. Please affix “Dam No. 4 Project No. 2516-026” or “Dam No. 5 Project No. 2517-012” to all comments. For further information, contact Peter Leitzke at (202) 502-6059 or peter.leitzke@ferc.gov.

Comments may be filed electronically via the Internet in lieu of paper. The Commission strongly encourages electronic filings. See 18 CFR 385.2001(a)(1)(iii) and the instructions on the Commission's Web site http://www.ferc.gov under the “e-Filing” link.

Magalie R. Salas,
Secretary.

[FR Doc. E4-161 Filed 1-29-04; 8:45 am]
BILLING CODE 6717-01-P